DEPARTMENT OF ENERGY

Federal Energy Regulatory Commission

[Project No. 2743-079]

Kodiak Electric Association, Inc.; Notice of Availability of Environmental Assessment

In accordance with the National Environmental Policy Act of 1969 and the Federal Energy Regulatory Commission's (Commission) regulations, 18 Code of Federal Regulations part 380, Commission staff has reviewed the Kodiak Electric Association, Inc.'s application for amendment of license for the Terror Lake Hydroelectric Project (FERC Project No. 2743) and has prepared an environmental assessment (EA). The project is located on the Terror and Kizhuyak Rivers in Kodiak Island Borough, Alaska. The project occupies federal lands administered by the U.S. Coast Guard, Bureau of Land Management, and the U.S. Fish and Wildlife Service within the Kodiak National Wildlife Refuge.

The EA contains Commission staff's analysis of the potential environmental effects of the proposed construction of two diversion dams within the Upper Hidden Basin Creek drainage, a 1.7-mile-long tunnel and canal system diverting water to Terror Lake, and a 4-mile-long spur road, and concludes that authorizing the amendment, with appropriate environmental protective measures, would not constitute a major federal action that would significantly affect the quality of the human environment.

A copy of the EA is available for review at the Commission in the Public Reference Room, or it may be viewed on the Commission's Web site at http://www.ferc.gov using the e-Library link. Enter the docket number (P-2743) in the docket number field to access the document. For assistance, contact FERC Online Support at FERCOnlineSupport@ferc.gov or call toll-free at 1-866-208-3676 or (202) 502-8659 (for TTY).

You may also register online at http://www.ferc.gov/docs-filing/esubsription.asp to be notified via email of new filings and issuances related to this or other pending projects. For assistance, contact FERC Online Support.

All comments must be filed within 30 days of the date of this notice and should reference Project No. 2743. The Commission strongly encourages electronic filing. Please file comments using the Commission's efiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, please send a paper copy to: Kimberly D. Bose, Secretary, Federal Energy Regulatory Commission, 888 First Street NE., Washington, DC 20426.

For further information, contact Dr. Jennifer Ambler by telephone at 202-502-8586 or by email at jennifer.ambler@ferc.gov.

Dated: May 11, 2017.
Kimberly D. Bose,
Secretary.

[FR Doc. 2017-09956 Filed 5-16-17; 8:45 am]

BILLING CODE 6717-01-P